FEDERAL RESERVE SYSTEM

Agency Information Collection Activities: Announcement of Board Approval Under Delegated Authority and Submission to OMB

SUMMARY: Background.

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer -Michelle Shore--Division of Research and Statistics, Board of Governors of the Federal Reserve System, Washington, DC 20551 (202-452-3829)

OMB Desk Officer-Alexander T. Hunt--Office of Information and Regulatory Affairs, Office of Management and Budget, New Executive Office Building, Room 10235, Washington, DC 20503.

Final approval under OMB delegated authority of the extension for three years, with revision, of the following report:

1. Report title: Interagency Bank Merger Act Application

Agency form number: FR 2070

OMB control number: 7100-0171

Frequency: On occasion

Reporters: State member banks

Annual reporting hours: Nonaffiliate Transactions: 1,560; Affiliate Transactions: 234

Estimated average hours per response: Nonaffiliate Transactions: 30; Affiliate Transactions: 18

Number of respondents: Nonaffiliate Transactions: 52; Affiliate Transactions: 13

General description of report: This information collection is mandatory (12 U.S.C. 1828(c)) and is not given confidential treatment. However, applicants may request that parts of a submitted application be kept confidential. In such cases, the burden is on the applicant to justify the exemption by demonstrating that disclosure would cause substantial competitive harm or result in an unwarranted invasion of personal privacy or would otherwise qualify for an exemption under the Freedom of Information Act (5 U.S.C. 552). The confidentiality status of the information submitted will be judged on a case-by-case basis.

Abstract: The Federal Reserve, the Office of the Comptroller of the Currency (OCC), the Federal Deposit Insurance Corporation (FDIC) and the Office of Thrift Supervision (OTS) (the agencies) each use this application form to collect information for bank merger proposals that require prior approval under the Bank Merger Act. Prior approval is required for every merger transaction involving affiliated or nonaffiliated institutions and must be sought from the regulatory agency of the depository institution that would survive the proposed transaction. A merger transaction may include a merger, consolidation, assumption of deposit liabilities, or certain asset-transfers between or among two or more institutions. The Federal Reserve collects this information so that it may meet its statutory obligation to evaluate the competitive, financial, managerial, future prospects, and convenience and needs aspects of each state member bank merger proposal.

Current Actions: The Federal Reserve will update the General Information and Instructions to reflect passage of the Federal Deposit Insurance Reform Act of 2005, which was enacted on February 8, 2006. Provisions of this legislation directed the merger of the Bank Insurance Fund and the Savings Association Insurance Fund into a new Deposit Insurance Fund. The formation of the single insurance fund eliminated the need for two types of insurance-related applications that had been required for certain bank merger transactions. The revisions relate entirely to the eliminated filing requirements. On July 18, 2007, the Federal Reserve published a notice in the Federal Register (72 FR 39429) requesting public comment for sixty days on the extension, with revision, of the Interagency Bank Merger Act Application; the comment period expired on September 17, 2007. The Federal Reserve did not receive any comments. The revisions will be implemented as proposed.

On August 7, 2007, the OCC and FDIC published a separate Federal Register notice (72 FR 44220) requesting public comment for sixty days on these revisions; the comment period expired on October 9, 2007. The OTS will publish a separate Federal Register notice requesting public comment on these revisions.

2. Report title: Intermittent Survey of Businesses

Agency form number: FR 1374

OMB control number: 7100-0302

Frequency: on occasion

Reporters: businesses

Annual reporting hours: 205

Estimated average hours per response: 15 minutes

Number of respondents: 250

General description of report: This information collection is voluntary (12 U.S.C. 225a and 263) and may be given confidential treatment (5 U.S.C. 552(b)(4)).

Abstract: The survey data are used by the Federal Reserve to gather information specifically tailored to the Federal Reserve's policy and operational responsibilities. There are two parts to this event-generated survey. First, the Federal Reserve Banks survey business contacts as economic developments warrant. Currently, they conduct these surveys two times per year, with approximately 120 business respondents for each survey (about ten per Reserve Bank). Usually, these surveys are conducted by Reserve Bank economists telephoning or emailing purchasing managers, economists, or other knowledgeable individuals at selected, relevant businesses. The frequency and content of the questions, as well as the businesses contacted, vary depending on changing developments in the economy. Second, economists at the Board survey business contacts by telephone, inquiring about current business conditions. Historically, these surveys have been conducted biweekly, with approximately ten respondents for each survey.

Current actions: The Federal Reserve will revise the frequency of both parts of the survey in response to recent changes in the demand for these data by the Board members. The Reserve Bank portion of the survey will be conducted as economic events dictate (about three times per year). The Board portion of the survey will be conducted on an event-generated basis, no more than ten times per year. In addition, the Federal Reserve will increase the number of respondents for the Reserve Bank part of the survey from 120 to 240 (twenty per Reserve Bank). On July 23, 2007, the Federal Reserve published a notice in the Federal Register (72 FR 40152) requesting public comment for sixty days on the extension, with revision, of the Intermittent Survey of Businesses; the comment period expired on September 21, 2007. The Federal Reserve did not receive any comments. The revisions will be implemented as proposed.

Final approval under OMB delegated authority of the extension for three years, without revision, of the following report:

1. Report title: Interagency Notice of Change in Control, Interagency Notice of Change in Director or Senior Executive Officer, and Interagency Biographical and Financial Report.

Agency form number: FR 2081a, FR 2081b, and FR 2081c

OMB control number: 7100-0134

Frequency: On occasion

Reporters: Financial institutions and certain of their officers and shareholders

Annual reporting hours: FR 2081a: 3,150; FR 2081b: 142; FR 2081c: 2,464

Estimated average hours per response: FR 2081a: 30; FR 2081b: 2; FR 2081c: 4

Number of respondents: FR 2081a: 105; FR 2081b: 71; FR 2081c: 616

General description of report: This information collection is mandatory (12 U.S.C. 1817(j) and 12 U.S.C. 1831(i)) and is not given confidential treatment. However, applicants may request that parts of a submitted application be kept confidential. In such cases, the burden is on the applicant to justify the exemption by demonstrating that disclosure would cause substantial competitive harm or result in an unwarranted invasion of personal privacy or would otherwise qualify for an exemption under the Freedom of Information Act (5 U.S.C. 552). The confidentiality status of the information submitted will be judged on a case-by-case basis.

Abstract: The information collected assists the Federal Reserve, the Office of the Comptroller of the Currency (OCC), the Federal Deposit Insurance Corporation (FDIC) and the Office of Thrift Supervision (OTS) (the agencies) in fulfilling their statutory responsibilities as supervisors. Each of these forms is used to collect information in connection with applications and notices filed prior to proposed changes in the ownership or management of banking organizations. The agencies use the information to evaluate the controlling owners, senior officers, and directors of the insured depository institutions subject to their oversight.

Current Actions: On July 18, 2007, the Federal Reserve published a notice in the Federal Register (72 FR 39429) requesting public comment for sixty days on the extension, without revision, of these notices and reporting form; the comment period expired on September 17, 2007. The Federal Reserve did not receive any comments. On August 7, 2007, the OCC and FDIC published a separate Federal Register notice (72 FR 44220) requesting public comment for sixty days on the extension; the comment period expired on October 9, 2007. The OTS will publish a separate Federal Register notice requesting public comment on the extension.

2. Report title: Semiannual Report of Derivatives Activity

Agency form number: FR 2436

OMB control number: 7100-0286

Frequency: Semiannually

Reporters: U.S. dealers of over-the-counter derivatives

Annual reporting hours: 2,100

Estimated average hours per response: 150

Number of respondents: 7

General description of report: This information collection is voluntary (12 U.S.C. 225a, 263, 348a, and 353-359) and is given confidential treatment (5 U.S.C. 552(b)(4)).

Abstract: Data are collected on notional amounts and gross market values of outstanding OTC derivatives contracts for broad categories of market risk: foreign exchange, interest rate, equities, commodities, and credit. For the different types of market risk except commodities, further detail is collected on the underlying market risk of each contract-- the underlying currency, equity market, or reference entity (borrower). This collection of information complements the triennial Central Bank Survey of Foreign Exchange and Derivatives Market Activity (FR 3036; OMB No. 7100-0285). The FR 2436 collects similar data on the outstanding volume of derivatives, but not on derivatives turnover. The Federal Reserve conducts both surveys in coordination with other central banks and forwards the aggregated data furnished by U.S. reporters to the Bank for International Settlements, which publishes global market statistics that are aggregations of national data.

Current Actions: On July 23, 2007, the Federal Reserve published a notice in the Federal Register (72 FR 40152) requesting public comment for sixty days on the extension, without revision, of the Semiannual Report of Derivatives Activity; the comment period expired on September 21, 2007. The Federal Reserve did not receive any comments.

Board of Governors of the Federal Reserve System, October 12, 2007.
Jennifer J. Johnson,
Secretary of the Board.

[FR Doc. E7-20413 Filed 10-16-07; 8:45 am]

BILLING CODE 6210-01-S